NATIONAL FOUNDATION ON THE ARTS AND THE HUMANITIES

Meeting of Humanities Panel

AGENCY: National Endowment for the Humanities.

ACTION: Notice of meeting.

SUMMARY: The National Endowment for the Humanities will hold six meetings of the Humanities Panel, a federal advisory committee, during July 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meeting:

1. Date: July 24, 2018. This meeting will discuss applications on the topics of American Literature and Studies, the Arts, and Media, for the Awards for Faculty grant program, submitted to the Division of Research Programs.

2. Date: July 24, 2018. This meeting will discuss applications on the topics of Literature, History, and the Arts, for the NEH-Mellon Fellowships, submitted to the Division of Research Programs.

3. Date: July 25, 2018. This meeting will discuss applications on the topics of Literature, Philosophy, and Religion, for the Awards for Faculty grant program, submitted to the Division of Research Programs.

4. Date: July 26, 2018. This meeting will discuss applications on the topics of History and Politics, for the Awards for Faculty grant program, submitted to the Division of Research Programs.

5. Date: July 26, 2018. This meeting will discuss applications for Fellowships for Advanced Social Science Research on Japan, submitted to the Division of Research Programs.

6. Date: July 27, 2018. This meeting will discuss applications on the topics of American History and Studies, and Social Sciences, for the Awards for Faculty grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 7, 2018.
Elizabeth Voyatzis,
Committee Management Officer.

[FR Doc. 2018-12653 Filed 6-12-18; 8:45 am]

BILLING CODE 7536-01-P